DEPARTMENT OF STATE

[Public Notice 10392]

Notice of Change of Ownership of Permit Holder of Presidential Permit for Detroit River Crossing Pipeline Facilities on the Border of the United States and Canada

AGENCY: Department of State.

ACTION: Notice.

SUMMARY: Notice is hereby given of a change in ownership of cross-border liquid hydrocarbon pipeline facilities at the U.S.-Canada border near Detroit, Michigan (“Detroit River Crossing Facilities”) authorized under a Presidential permit issued to Kinder Morgan Cochin LLC (“KM Cochin”) on November 3, 2015. KM Cochin transferred the Detroit River Crossing Facilities to Kinder Morgan Utopia LLC (“KM Utopia”) on May 7, 2017 and notified the Department of this transfer on October 29, 2017. Consistent with the procedures set forth in Public Notice 10111, dated Sept. 7, 2017, the Department has reviewed that notification and has determined that the change in ownership does not affect the prior national interest determination that resulted in issuance of the Presidential permit issued to KM Cochin on November 3, 2015. That permit, therefore, remains valid and the Department recognizes KM Utopia as holder of that permit, subject to its terms and conditions.

FOR FURTHER INFORMATION CONTACT: Presidential Permit Coordinator, Energy Resources Bureau, Office of Policy Analysis and Public Diplomacy, United States Department of State, 2201 C St. NW, Suite 4422, Washington, DC 20520. Tel: 202-485-1522.

Richard W. Westerdale II,
Senior Advisor, Bureau of Energy Resources, Department of State.

[FR Doc. 2018-08297 Filed 4-19-18; 8:45 am]

BILLING CODE 4710-AE-P